DEPARTMENT OF ENERGY

Federal Energy Regulatory Commission

[Docket No. CP03-57-000]

El Paso Natural Gas Company; Notice of Application

March 7, 2003.

Take notice that on February 27, 2003, El Paso Natural Gas Company (El Paso), P. O. Box 1087, Colorado Springs, Colorado 80944 filed in Docket No. CP03-57-000, an application pursuant to sections 7(b) and 7(c) of the Natural Gas Act (NGA), as amended, and part 157 of the regulations of the Federal Energy Regulatory Commission (Commission), for permission and approval to abandon, by removal, certain existing mainline compression facilities, with appurtenances, and for a certificate of public convenience and necessity authorizing the construction and operation of new mainline compression facilities, with appurtenances, all located at El Paso's existing Bondad Compressor Station in La Plata County, Colorado (Bondad Expansion Project), all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

El Paso states that it is proposing to undertake the following activities at its existing Bondad Compressor Station located in La Plata County, Colorado:

(1) Abandon two existing Solar Centaur T4000 simple cycle gas turbine engines and one Solar Centaur T3550 simple cycle gas turbine engine which have a combined horsepower rating of 10,740 (ISO), with appurtenant equipment.

(2) Replace the three existing Solar Centaur simple cycle gas turbine engines with two Solar Centaur 50-T6100L simple cycle gas turbine engines and one Solar Centaur 50S-T6100 SoLoNox simple cycle gas turbine engine, with appurtenances, which have a combined horsepower rating of 18,390 (ISO).¹ The Solar Centaur 50S-T6100 simple cycle gas turbine engine is equipped with air emission-lowering SoLoNox technology.

¹ Note that El Paso is seeking abandonment authorization for the three units that will be replaced. El Paso will exchange the existing units for the three units with the manufacturer.

(3) Restage the three existing compressor units at the Bondad Compressor Station. The compressors will be disassembled and the single stage aerodynamic assembly of each compressor will be removed and exchanged with a two stage assembly.

In its application, El Paso states that it has designed the Bondad Expansion Project to permit El Paso to offer additional firm transportation capacity on a defined receipt/delivery point basis of up to 140,000 Mcf per day, while continuing to meet the current transport capacity needs of its existing shippers (approximately 585.5 MMcf per day). According to El Paso, this additional firm capacity will be offered from receipt points upstream of the Bondad Compressor Station to a proposed new delivery point located near its existing Blanco Compressor Station located in San Juan County, New Mexico. Since this new increment of firm capacity is only available to the Blanco area, El Paso states that the project will not create additional mainline capacity out of the San Juan Basin.

In support of the Bondad Expansion Project, El Paso states that it has entered into a binding firm Transportation Service Agreement with BP Energy Company (BP) for the transportation of gas on El Paso's existing Ignacio Lines from any point of receipt in the Bondad Pooling Area to the Blanco Delivery Point. El Paso also states that the contract demand under this TSA equals the proposed 140,000 Mcf per day increase in design capacity for transportation on the Bondad System.

El Paso states that the cost for the Bondad Expansion Project is approximately $7,307,700 and El Paso plans to place the proposed facilities in service by April 1, 2004.

Any questions concerning this application may be directed to Robert T. Tomlinson, Director, Regulatory Affairs, El Paso Natural Gas Company, P. O. Box 1087, Colorado Springs, Colorado, 80944, at (719) 520-3788 or fax (719) 520-4318; or to Judy A. Heineman, Vice President and General Counsel, El Paso Corporation—Western Pipelines Division, P. O. Box 1087, Colorado Springs, Colorado, 80944, at (719) 520-4829 or fax (719) 520-4898.

There are two ways to become involved in the Commission's review of this project. First, any person wishing to obtain legal status by becoming a party to the proceedings for this project should file with the Federal Energy Regulatory Commission, 888 First Street, NE., Washington, DC 20426, a motion to intervene in accordance with the requirements of the Commission's rules of practice and procedure (18 CFR 385.214 or 385.211) and the regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: March 28, 2003.

Magalie R. Salas,
Secretary.

[FR Doc. 03-6001 Filed 3-12-03; 8:45 am]

BILLING CODE 6717-01-P